DEPARTMENT OF HOMELAND SECURITY

Coast Guard

33 CFR Part 117

[Docket No. USCG-2012-0911]

Drawbridge Operation Regulation; Thea Foss Waterway Previously Known as City Waterway, Tacoma, WA

AGENCY: Coast Guard, DHS.

ACTION: Notice of temporary deviation from regulations; request for comments.

SUMMARY: The Coast Guard has issued a temporary deviation from the operating schedule that governs the Murray Morgan Bridge, also known as the South 11th Street Bridge, across the Thea Foss Waterway, mile 0.6, previously known as City Waterway, at Tacoma, WA. This deviation will test a change to the drawbridge operating schedule to determine whether a permanent change to the schedule is needed. This test deviation will modify the existing regulation and add an advance notification requirement for obtaining bridge openings during designated times. The Coast Guard has also published a notice of proposed rulemaking (NPRM) under docket number USCG-2012-0911 to which comments may be posted

DATES: This deviation is effective from 7 a.m. on January 1, 2013 through 8 a.m. June 15, 2013. Comments and related material must reach the Coast Guard on or before [Insert date 45 days after date of publication in the Federal Register].

ADDRESSES: You may submit comments identified by docket number USCG-2012-0911 using any one of the following methods:

(1) Federal eRulemaking Portal: http://www.regulations.gov.

(2) Fax: 202-493-2251.

(3) Mail or Delivery: Docket Management Facility (M-30), U.S. Department of Transportation, West Building Ground Floor, Room W12-140, 1200 New Jersey Avenue SE., Washington, DC 20590-0001. Deliveries accepted between 9 a.m. and 5 p.m., Monday through Friday, except Federal holidays. The telephone number is 202-366-9329.

See the “Public Participation and Request for Comments” portion of the SUPPLEMENTARY INFORMATION section below for instructions on submitting comments. To avoid duplication, please use only one of these four methods.

FOR FURTHER INFORMATION CONTACT: If you have questions on this rule, call or email the Bridge Administrator, Coast Guard Thirteenth District; telephone 206-220-7282 email randall.d.overton@uscg.mil. If you have questions on viewing the docket, call Renee V. Wright, Program Manager, Docket Operations, telephone 202-366-9826.

SUPPLEMENTARY INFORMATION:

A. Public Participation and Request for Comments

We encourage you to participate in this rulemaking by submitting comments and related materials. All comments received will be posted, without change, to http://www.regulations.gov and will include any personal information you have provided.

1. Submitting Comments

If you submit a comment, please include the docket number for this rulemaking (USCG-2012-0911), indicate the specific section of this document to which each comment applies, and provide a reason for each suggestion or recommendation. You may submit your comments and material online (http://www.regulations.gov), or by fax, mail or hand delivery, but please use only one of these means. If you submit a comment online via http://www.regulations.gov, it will be considered received by the Coast Guard when you successfully transmit the comment. If you fax, hand deliver, or mail your comment, it will be considered as having been received by the Coast Guard when it is received at the Docket Management Facility. We recommend that you include your name and a mailing address, an email address, or a phone number in the body of your document so that we can contact you if we have questions regarding your submission.

To submit your comment online, go to http://www.regulations.gov, click on the “submit a comment” box, which will then become highlighted in blue. In the “Keyword” box insert “USCG-2012-0911,” click “Search,” and then click on the balloon shape in the “Actions” column. If you submit your comments by mail or hand delivery, submit them in an unbound format, no larger than 8½ by 11 inches, suitable for copying and electronic filing. If you submit them by mail and would like to know that they reached the Facility, please enclose a stamped, self-addressed postcard or envelope. We will consider all comments and material received during the comment period and may change the rule based on your comments.

2. Viewing Comments and Documents

To view comments, as well as documents mentioned in this preamble as being available in the docket, go to http://www.regulations.gov, type the docket number “USCG-2012-0911” in the “Search” box and click “Search.” Click the “Open Docket Folder” on the line associated with this rulemaking. You may also visit the Docket Management Facility in Room W12-140 on the ground floor of the Department of Transportation West Building, 1200 New Jersey Avenue SE., Washington, DC 20590, between 9 a.m. and 5 p.m., Monday through Friday, except Federal holidays. We have an agreement with the Department of Transportation to use the Docket Management Facility.

3. Privacy Act

Anyone can search the electronic form of comments received into any of our dockets by the name of the individual submitting the comment (or signing the comment, if submitted on behalf of an association, business, labor union, etc.). You may review a Privacy Act notice regarding our public dockets in the January 17, 2008, issue of the Federal Register (73 FR 3316).

4. Public Meeting

We do not now plan to hold a public meeting. But you may submit a request for one using one of the four methods specified under ADDRESSES. Please explain why one would be beneficial. If we determine that one would aid this rulemaking, we will hold one at a time and place announced by a later notice in the Federal Register.

B. Basis and Purpose

The Coast Guard, at the request of the City of Tacoma, proposes to change the regulation which governs the operating schedule of the Murray Morgan Bridge. This temporary deviation will test three separate changes requested by the City of Tacoma.

The first change requires that for bridge openings needed between 10 p.m. and 8 a.m., notification be made no later than 8 p.m. prior to the desired opening. This differs from the existing regulation in that presently the bridge is required to open at all times (except during authorized closure periods) provided two hours advance notice is given. This deviation to the regulation which adds the requirement of notification by 8 p.m. for openings between 10 p.m. and 8 a.m. is being tested because openings between 10 p.m. and 8 a.m. are extremely rare. Over an 18 month period there were only 6 bridge openings requested between 10 p.m. and 8 a.m. which averages one bridge opening request per three month period. One of the unique features of the Murray Morgan Bridge is its height above the waterway providing 60 feet of clearance at mean high water (MHW) in the closed position. Because of this vertical clearance the overwhelming majority of vessels which transit this waterway do not require a bridge opening. The majority of bridge openings are for locally moored and operated recreational sailboats with mast heights over 60 feet. Almost all of these vessels are moored at marinas in very close proximity of the bridge.

The second change being tested in this deviation is removing the authorized bridge closure periods in the morning and afternoon. The current regulation states that the draw need not be opened from 6:30 a.m. to 8:30 a.m. and 3:30 p.m. to 5:30 p.m. Monday through Friday, for vessels of less than 1,000 gross tons. This test deviation requires the draw to open at all times with proper advance notification. The morning and afternoon authorized closures of the bridge outlined in the existing regulation were put into place when the bridge was part of SR 509, a continuous route from Northeast Tacoma to downtown, and traffic volumes were approximately 15,000 vehicles per day. In 1997 a new SR 509 was constructed approximately 0.7 miles south of the bridge and is now used as the main traffic corridor. After completion of the new SR 509, the Murray Morgan Bridge connection between Northeast Tacoma and downtown was severed due to roadway reconfiguration, resulting in traffic volumes dropping dramatically; therefore, the bridge no longer conveys high volumes of traffic during the morning and afternoon rush hours.

The third change being tested in this deviation is principally administrative and changes the contact information for emergency bridge openings. The existing regulation states “In emergencies, openings shall be made as soon as possible upon notification to the Washington State Department of Transportation.” The change being tested in this deviation requires notification for emergency opening to be made to the City of Tacoma. The reason for this change is because Washington State turned over ownership and responsibility of the bridge to the City of Tacoma on January 6, 1998.

Under this temporary deviation the bridge will operate as follows. The draw of the Murray Morgan Bridge, also known as the South 11th Street Bridge, across Thea Foss Waterway, previously known as City Waterway, mile 0.6, at Tacoma, shall open on signal if at least two hours notice is given. However, to obtain a bridge opening between 10 p.m. and 8 a.m. notification must be made to the City of Tacoma by 8 p.m. In emergencies, openings shall be made as soon as possible upon notification to the City of Tacoma. The Murray Morgan Bridge is a vertical lift bridge which provides a vertical clearance of 60 feet above mean high water. Vessels which do not require a bridge opening may continue to transit beneath the bridge at any time.

The Coast Guard has issued a Notice of Proposed Rule Making (NPRM) under docket number USCG-2012-0911 to receive comments on these changes. Comments can be submitted for this deviation or for the NPRM by following procedures outlined in the SUBMITTING COMMENTS section above.

In accordance with 33 CFR 117.35(e), the drawbridge must return to its regular operating schedule immediately at the end of the designated time period. This deviation from the operating regulations is authorized under 33 CFR 117.35.

Dated: October 2, 2012.
Randall D. Overton,
Bridge Administrator.

[FR Doc. 2012-28129 Filed 11-19-12; 8:45 am]

BILLING CODE 9110-04-P